DEPARTMENT OF HEALTH AND HUMAN SERVICES

Centers for Medicare & Medicaid Services

42 CFR Parts 410, 412, 413, 415, 416, and 419

[CMS-1834-CN]

RIN 0938-AV51

Medicare Program; Hospital Outpatient Prospective Payment and Ambulatory Surgical Center Payment Systems; Quality Reporting Programs; Overall Hospital Quality Star Rating; Hospital Price Transparency; and Notice of Closure of a Teaching Hospital and Opportunity To Apply for Available Slots; Correction

AGENCY: Centers for Medicare & Medicaid Services (CMS), Department of Health and Human Services (HHS).

ACTION: Final rule with comment period; correction.

SUMMARY: This document corrects technical errors in the final rule with comment period that appeared in the November 25, 2025 issue of the Federal Register titled “Medicare Program: Hospital Outpatient Prospective Payment and Ambulatory Surgical Center Payment Systems; Quality Reporting Programs; Overall Hospital Quality Star Rating; Hospital Price Transparency; and Notice of Closure of a Teaching Hospital and Opportunity To Apply for Available Slots” (hereinafter referred to as the “CY 2026 OPPS/ASC final rule with comment period”). The effective date of the CY 2026 OPPS/ASC final rule with comment period was January 1, 2026.

DATES: Effective February 23, 2026.

Applicability Date: This correcting document is applicable to January 1, 2026.

FOR FURTHER INFORMATION CONTACT:

For OPPS/ASC related questions, contact Gina Aughenbaugh via email at OutpatientPPS@cms.hhs.gov or (410) 786-7756.

For OPPS Addenda questions, contact Marina Kushnirova via email at Marina.Kushnirova@cms.hhs.gov.

For ASC Addenda questions, contact Scott Talaga via email at Scott.Talaga@cms.hhs.gov.

For New Technology APC questions, contact Nicole Marcos via email at Nicole.Marcos@cms.hhs.gov.

For Comprehensive Ambulatory Payment Classifications (C-APCs) questions, contact Elise Barringer via email at Elise.Barringer@cms.hhs.gov.

Ambulatory Surgical Center Quality Reporting (ASCQR) Program measures, contact Marsha Hertzberg via email at Marsha.Hertzberg@cms.hhs.gov.

Ambulatory Surgical Center Quality Reporting (ASCQR) Program policies, contact Anita Bhatia via email at Anita.Bhatia@cms.hhs.gov.

Hospital Outpatient Quality Reporting (OQR) Program policies, contact Kimberly Go via email at Kimberly.Go@cms.hhs.gov.

Hospital Outpatient Quality Reporting (OQR) Program measures, contact Kristina Rabarison via email at Kristina.Rabarison@cms.hhs.gov.

Rural Emergency Hospital Quality Reporting (REHQR) Program policies, contact Anita Bhatia via email at Anita.Bhatia@cms.hhs.gov.

Rural Emergency Hospital Quality Reporting (REHQR) Program measures, contact Melissa Hager via email at Melissa.Hager@cms.hhs.gov.

SUPPLEMENTARY INFORMATION:

I. Background

In FR Doc. 2025-20907 (90 FR 53448), the CY 2026 OPPS/ASC final rule with comment period, there were technical errors that are identified and corrected in this correcting document.

II. Summary of Errors

Summary of Errors in the Preamble

1. Hospital Outpatient Prospective Payment System (OPPS) Corrections

On page 53472, we are correcting a typographical error in the number of C-APCs.

On pages 53473 and 53474, in the table titled “TABLE 4: FINAL CY 2026 C-APCs” we are adding two C-APCs that were inadvertently omitted.

On page 53493, we are correcting two typographical errors in the wage index adjustment to the OPPS conversion factor.

On page 53586, in the table titled “TABLE 68: FINAL CY 2026 APC AND STATUS INDICATOR ASSIGNMENTS”, we are correcting an error in the HCPCS long descriptor for CPT code 0786T.

On page 53789, we are correcting an error in the final date of the elimination of the Inpatient Only list.

On page 53791, in the table titled “TABLE 119: FINAL PROCEDURES FOR REMOVAL FROM THE IPO LIST FOR CY 2026”, we are correcting an error in the long descriptors for CPT codes 20802 and 20805.

2. OPPS and Ambulatory Surgical Center (ASC) Payment System Corrections

On page 53905, in the table titled “TABLE 136: FINAL LIST OF QUALIFYING PRODUCTS FOR SEPARATE PAYMENT IN CY 2026 UNDER SECTION 4135 OF THE CAA, 2023”, we are correcting an error in the long descriptor for HCPCS code C9810.

3. Cross-Program Measures for the Hospital Outpatient Quality Reporting (OQR) Program, Rural Emergency Hospital Quality Reporting (REHQR) Program, and Ambulatory Surgical Center Quality Reporting (ASCQR) Program Corrections

On page 53921, we inadvertently omitted language regarding the phrase “program determination” associated with the removal of the Hospital Commitment to Health Equity (HCHE) measure for the REHQR Program.

4. Hospital Outpatient Quality Reporting (OQR) Program Corrections

On pages 53927 and 53931, we are correcting URL links in footnotes 293, 310, and 311 (respectively) for accuracy.

On page 53934, we inadvertently omitted language regarding the description of numerator component (1) for the Emergency Care Access & Timeliness electronic clinical quality measure (eCQM).

On page 53937, we are correcting an in-text URL link for accuracy.

5. Rural Emergency Health Quality Reporting (REHQR) Program Corrections

On page 53945, we are correcting URL links in footnotes 348 and 351 (respectively) for accuracy.

On page 54031 and 54039, we are correcting in-text URL links for accuracy.

On page 54043, we are correcting a table references for accuracy.

III. Waiver of Proposed Rulemaking and Delay in Effective Date

We ordinarily publish a notice of proposed rulemaking in the Federal Register to provide a period for public comment before the provisions of a rule take effect in accordance with section 553(b) of the Administrative Procedure Act (APA) (codified at 5 U.S.C. 553(b) and incorporated into section 1871(b) of the Social Security Act (the Act)). However, this notice and comment procedure does not apply if the Secretary finds, for good cause, that the notice and comment process is impracticable, unnecessary, or contrary to the public interest, and incorporates a statement of the finding and the reasons therefore in the notice.

Section 553(d) of the APA, similar to section 1871(e) of the Act, ordinarily requires a 30-day delay in effective date of final rules after the date of their publication in the Federal Register. However, this 30-day delay in effective date is not required under the APA if the agency finds good cause not to delay and incorporates a statement of the findings and its reasons in the rule issued. Similarly, the 30-day delay is not required under section 1871 if the Secretary finds that a waiver is necessary to comply with statutory requirements or that a delay is contrary to the public interest and states the reasons for such a finding.

Our policies for the wage index adjustment, the Inpatient Only List, and the applicable Healthcare Common Procedure Coding System (HCPCS) codes and descriptors in this correcting amendment were included in the CY 2026 OPPS/ASC final rule with comment period and have previously been subjected to notice and comment procedures. These corrections are consistent with the discussion of this policy in the CY 2026 OPPS/ASC final rule with comment period and do not make substantive changes to this policy. This correcting document corrects technical errors in the regulations text of the CY 2026 OPPS/ASC final rule with comment period. As a result, this correcting document is intended to ensure that the CY 2026 OPPS/ASC final rule with comment period accurately reflects the policy adopted in the CY 2026 OPPS/ASC final rule with comment period. Therefore, we find for good cause that undertaking further notice and comment procedures to incorporate these corrections into the CY 2026 OPPS/ASC final rule with comment period is unnecessary and contrary to the public interest, such that section 553(b) of the APA does not apply, because it is in the public's interest for providers to receive appropriate payments in as timely a manner as possible, and to ensure that the CY 2026 OPPS/ASC final rule with comment period reflects our policies. Furthermore, such procedures would be unnecessary, as we are not altering our payment methodologies or policies, but rather, we are simply correctly describing the policies that we previously proposed, requested comments on, and subsequently finalized.

For the same reasons, we are also waiving the 30-day delay in effective date for this correcting document. We find that it is in the public interest to ensure that the CY 2026 OPPS/ASC final rule with comment period accurately states our policies on the wage index adjustment, the Inpatient Only List, and the applicable HCPCS codes and descriptors referenced in this correcting document. Thus, we find that delaying the effective date of these corrections would be contrary to the public interest. Therefore, we also find good cause to waive the 30-day delay in effective date.

IV. Correction of Errors in the Preamble

In FR Doc. 2025-20907 of November 25, 2025 (90 FR 53448), the CY 2026 OPPS/ASC final rule with comment period, make the following corrections:

1. On page 53472, third column, second full paragraph, the sentence “After consideration of the public comments we received, we are finalizing the C-APCs as proposed” is corrected to read “After consideration of the public comments we received, we are finalizing the C-APCs with modifications. As discussed in sections III.E.1.b and IX.C.2 of this final rule with comment period we are adding APC 5433 (Level 3 Nerve Procedures) and APC 5117 (Level 7 Musculoskeletal Procedures) to the list of C-APCs for CY 2026; thus the number of C-APCs for CY 2026 will increase from 72 to 74.”.

2. On page 53473, in the table titled “TABLE 4: FINAL CY 2026 C-APCs”, after the entry “5116, Level 6 Musculoskeletal Procedures, ORTHO” (row 12), add a new row to read as:

3. On page 53474, in the table titled “TABLE 4: FINAL CY 2026 C-APCs”, after the entry “5432, Level 2 Nerve Procedures, NERVE” (row 10), add a new row to read as:

4. On page 53493, in the table titled “TABLE 8: CALCULATION OF CY 2026 OPPS CONVERSION FACTOR”, row 5 labeled “Step 3”:

a. Second line, the figure “0.9955” is corrected to read “0.9995”.

b. Third line, the figure “$91.456” is corrected to read “$90.317”.

5. On page 53586, in the table titled “TABLE 68: FINAL CY 2026 APC AND STATUS INDICATOR ASSIGNMENTS”, row 5 for CPT code 0786T, column 2, the HCPCS long descriptor “Open implantation of cranial nerve (eg, vagus nerve) neurostimulator electrode array and pulse generator” is corrected to read “Insertion or replacement of percutaneous electrode array, sacral, with integrated neurostimulator, including imaging guidance, when performed”.

6. On page 53789, second column, first line, the date “January 1, 2028” is corrected to read “January 1, 2029”.

7. On page 53791, in the table titled “TABLE 119: FINAL PROCEDURES FOR REMOVAL FROM THE IPO LIST FOR CY 2026”,

a. Row 9, column 2, in the long descriptor text for HCPCS code 20802, the text “Removal of total disc arthroplasty (artificial disc), anterior approach, each additional interspace, cervical (list separately in addition to code for primary procedure)” is corrected to read “Replantation, arm (includes surgical neck of humerus through elbow joint), complete amputation”.

b. Row 10, column 2, in the long descriptor text for HCPCS code 20805, the text “Revision including replacement of total disc arthroplasty (artificial disc), anterior approach, each additional interspace, cervical (list separately in addition to code for primary procedure)” is corrected to read “Replantation, forearm (includes radius and ulna to radial carpal joint), complete amputation”.

8. On page 53905, in the table titled “TABLE 136: FINAL LIST OF QUALIFYING PRODUCTS FOR SEPARATE PAYMENT IN CY 2026 UNDER SECTION 4135 OF THE CAA, 2023”, row 12, in the long descriptor text for HCPCS code C9810, the text “cCAA 2023” is corrected to read “CAA, 2023”.

9. On page 53921, second column, second full paragraph, lines 7 and 8, the phrase “payment determination.” is corrected to read “payment or program determination.”

10. On page 53927, second column, second footnote (footnote 293), lines 3 and 4, the link “https://www.jointcommission.org/en-us/standards/r3-report/r3-report-4.” is corrected to read “https://cdn2.hubspot.net/hubfs/3835765/BedWatch_August2017/Docs/R3_Report_Issue_4.pdf.”.

11. On page 53931, first column,

a. First footnote (footnote 310), lines 3 and 4, the URL link “https://www.jointcommission.org/en-us/standards/r3-report/r3-report-4.” is corrected to read “https://cdn2.hubspot.net/hubfs/3835765/BedWatch_August2017/Docs/R3_Report_Issue_4.pdf.”.

b. Second footnote (footnote 311), lines 3 and 4, the URL link “https://www.acep.org/administration/crowding-boarding.” is corrected to read “https://www.acep.org/administration/crowding--boarding.”.

12. On page 53934, second column, first full paragraph, line 22, add the word “during” before the phrase “history-taking and”.

13. On page 53937, first column, first full paragraph, lines 12 and 13, the URL link “https://ecqi.healthit.gov/ecqm/eh/prerulemaking/2024/cms1074v1.” is corrected to read “https://ecqi.healthit.gov/ecqm/hosp-inpt/2026/cms1074v3.”.

14. On page 53945, second column,

a. Third footnote (footnote 348), lines 7 and 8, the URL link “https://doi.org/10.1002/emp2. 12401.” is corrected to read “https://doi.org/10.1002/emp2.12401.”.

b. Sixth footnote (footnote 351), lines 7 and 8, the URL link “https://doi.org/10.1002/emp2. 12401.” is corrected to read “https://doi.org/10.1002/emp2.12401.”.

15. On page 54031, second column, first partial paragraph, lines 5 and 6, the URL link “Medicare.gov/Care Compare” is corrected to read “https://www.medicare.gov/care-compare/.”.

16. On page 54039, second column, first partial paragraph, line 1, the URL link “Medicare.gov/Care Compare” is corrected to read “https://www.medicare.gov/care-compare/.”.

17. On page 54043, second column, last partial paragraph, line 1, the phrase “Tables 154 through 158” is corrected to read “Tables 154 through 156”.

Liesl I. Fowler,
Executive Secretary to the Department, Department of Health and Human Services.

[FR Doc. 2026-03578 Filed 2-20-26; 8:45 am]

BILLING CODE 4120-01-P